DEPARTMENT OF COMMERCE

International Trade Administration

[A-357-812, C-357-813]

Honey from Argentina; Final Results of Antidumping and Countervailing Duty Changed Circumstances Reviews; Revocation of Antidumping and Countervailing Duty Orders

AGENCY: Import Administration, International Trade Administration, Department of Commerce

DATES: Effective Date: December 31, 2012.

FOR FURTHER INFORMATION CONTACT: Patrick Edwards or Angelica Mendoza, AD/CVD Operations, Office 7, Import Administration, International Trade Administration, U.S. Department of Commerce, 14th Street and Constitution Avenue NW., Washington, DC 20230, at (202) 482-8029 or (202) 482-3019, respectively.

SUMMARY: The Department of Commerce (the Department) is revoking the antidumping duty and countervailing duty orders on honey from Argentina because we have concluded that substantially all domestic producers lack interest in the relief provided by these orders.

SUPPLEMENTARY INFORMATION:

Background

On December 10, 2001, the Department published the antidumping and countervailing duty orders on honey from Argentina.¹ On July 24, 2012, the American Honey Producers Association and the Sioux Honey Association (collectively, petitioners) requested that the Department revoke the AD Order, effective December 1, 2010, based on the domestic U.S. industry's lack of further interest.² On August 22, 2012, the petitioners requested that the Department revoke the CVD Order, effective December 1, 2011, again based on their lack of further interest in these proceedings.³

¹ See Notice of Antidumping Duty Order: Honey from Argentina, 66 FR 63672 (December 10, 2001) (AD Order) and Notice of Countervailing Duty Order: Honey from Argentina, 66 FR 63673 (December 10, 2001) (CVD Order), (collectively, Orders).

² See Letter from Petitioners, entitled “Request for `No Interest' Changed Circumstances Review of the Antidumping and Countervailing Duty Orders on Honey from Argentina,” dated July 24, 2012 (CCR Request).

³ See Letter from Petitioners, entitled “Supplement to Petitioners' Request for a `No-Interest' Changed Circumstances Review of the Antidumping and Countervailing Duty Orders on Honey from Argentina,” dated August 22, 2012 (Supplemental CCR Request).

On October 2, 2012, the Department published a notice of initiation of changed circumstances reviews of the Orders on honey from Argentina.⁴ In the Initiation Notice, we invited interested parties to comment on the Department's initiation. We did not receive comments from any interested party expressing opposition to the changed circumstances reviews nor to the possible revocation of the Orders. On November 14, 2012, the Department published a notice of preliminary results of changed circumstances reviews of the Orders on honey from Argentina, and the preliminary intent to revoke the AD Order, effective December 1, 2010, and the CVD Order, effective December 1, 2011.⁵ In the Preliminary Revocation, we again invited interested parties to comment on the Department's results by submitting case and rebuttal briefs. We received no comments or briefs from interested parties.

⁴ See Initiation Notice.

⁵ See Honey from Argentina; Antidumping and Countervailing Duty Changed Circumstances Reviews; Preliminary Intent to Revoke Antidumping and Countervailing Duty Orders, 77 FR 67790 (November 14, 2012) (Preliminary Revocation).

Accordingly, we are notifying the public of the revocation of the antidumping duty order, in whole, with respect to products entered, or withdrawn from warehouse, for consumption on or after December 1, 2010, and the countervailing duty order, in whole, with respect to products entered, or withdrawn from warehouse, for consumption on or after December 1, 2011, because domestic parties have expressed no interest in the continuation of the Orders after these dates.

Scope of the Orders

The merchandise covered by the orders is honey from Argentina. The products covered are natural honey, artificial honey containing more than 50 percent natural honey by weight, preparations of natural honey containing more than 50 percent natural honey by weight, and flavored honey. The subject merchandise includes all grades and colors of honey whether in liquid, creamed, comb, cut comb, or chunk form, and whether packaged for retail or in bulk form. The merchandise is currently classifiable under subheadings 0409.00.00, 1702.90.90, and 2106.90.99 of the Harmonized Tariff Schedule of the United States (HTSUS). Although the HTSUS subheadings are provided for convenience and customs purposes, the Department's written description of the merchandise under the orders is dispositive.

Final Results of Changed Circumstances Review and Revocation, in Whole, of the Orders

Pursuant to section 751(d)(1) of the Tariff Act of 1930, as amended (the Act), and 19 CFR 351.222(g), the Department may revoke an antidumping or countervailing duty order, in whole or in part, based on a review under section 751(b) of the Act (i.e., a changed circumstances review). Section 751(b)(1) of the Act requires a changed circumstances review to be conducted upon receipt of a request which shows changed circumstances sufficient to warrant a review. Section 782(h)(2) of the Act gives the Department the authority to revoke an order if producers accounting for substantially all of the production of the domestic like product have expressed a lack of interest in the continuation of the order. Section 351.222(g) of the Department's regulations provides that the Department will conduct a changed circumstances review under 19 CFR 351.216, and may revoke an order (in whole or in part), if it concludes that (i) producers accounting for substantially all of the production of the domestic like product to which the order pertains have expressed a lack of interest in the relief provided by the order, in whole or in part, or (ii) if other changed circumstances sufficient to warrant revocation exist. Both the Act and the Department's regulations require that “substantially all” domestic producers express a lack of interest in the order(s) for the Department to revoke.⁶ The Department has interpreted “substantially all” to represent producers accounting for at least 85 percent of U.S. production of the domestic like product.⁷

⁶ See section 782(h) of the Act and 19 CFR 351.222(g).

⁷ See Certain Orange Juice from Brazil: Preliminary Results of Antidumping Duty Changed Circumstances Review and Intent Not to Revoke, In Part, 73 FR 60241, 60242 (October 10, 2008), unchanged in Certain Orange Juice From Brazil: Final Results of Antidumping Duty Changed Circumstances Review, 74 FR 4733 (January 27, 2009); see also 19 CFR 351.208(c).

As noted in the Initiation Notice, and again in the Preliminary Revocation, the petitioners requested the revocation of these orders because they are no longer interested in maintaining the Orders or in the imposition of duties on the subject merchandise as of December 1, 2010, for the AD Order and December 1, 2011, for the CVD Order. Because the Department did not receive any comments during the period in which parties were permitted to submit briefs or other comments opposing the preliminary revocation of the Orders on honey from Argentina, we conclude that producers accounting for substantially all of the production of the domestic like product, to which these orders pertain, lack interest in the relief provided by the Orders.

Therefore, in accordance with sections 751(b), 751(d), and 782(h) of the Act, and 19 CFR 351.222(g), the Department concludes that there is a reasonable basis to believe that changed circumstances exist sufficient to warrant revocation of the Orders. Thus, the Department is revoking the Orders on honey from Argentina, in whole, with regard to the products described above under the “Scope of the Orders” section.

The Department will instruct U.S. Customs and Border Protection (CBP) to terminate suspension of liquidation effective December 1, 2010, for the AD Order, and December 1, 2011, for the CVD Order. The Department will instruct CBP to liquidate without regard to antidumping duties and countervailing duties, all unliquidated entries of the subject merchandise entered, or withdrawn from warehouse, for consumption on or after December 1, 2010, for the AD Order and January 1, 2012, for the CVD Order.⁸ In accordance with section 778 of the Act, we will also instruct CBP to pay interest on and refund any AD deposits with respect to the subject merchandise entered, or withdrawn from warehouse, for consumption on or after December 1, 2010, the first day of the tenth administrative review period, the review of which is now terminated by virtue of the effective date of the revocation of the AD Order. We will also instruct CBP to pay interest on and refund any CVD deposits with respect to the subject merchandise entered, or withdrawn from warehouse, for consumption on or after January 1, 2012, the earliest date on which entries remain suspended under the CVD Order.

⁸ There is no administrative review of the CVD Order for the period January 1, 2011, through December 31, 2011; therefore, there are no unliquidated entries during this period.

This notice is published in accordance with section 751(b)(1) of the Act and 19 CFR 351.216, 351.221(c)(3), and 351.222.

Dated: December 20, 2012.
Paul Piquado,
Assistant Secretary for Import Administration.

[FR Doc. 2012-31436 Filed 12-28-12; 8:45 am]

BILLING CODE 3510-DS-P